DEPARTMENT OF THE INTERIOR

Bureau of Indian Affairs

Indian Gaming

AGENCY: Bureau of Indian Affairs, Interior.

ACTION: Notice of Amendment to Approved Tribal-State Compact.

SUMMARY: This notice publishes the approval of the extension of agreement between the Northern Cheyenne Tribe and the State of Montana concerning Class III gaming, with the incorporated amendments.

EFFECTIVE DATE: April 30, 2007.

FOR FURTHER INFORMATION CONTACT: George T. Skibine, Director, Office of Indian Gaming, Office of the Deputy Assistant Secretary—Policy and Economic Development, Washington, DC 20240, (202) 219-4066.

SUPPLEMENTARY INFORMATION: Pursuant to Section 11 of the Indian Gaming Regulatory Act of 1988 (IGRA), Public Law 100-497, 25 U.S.C. 2710, the Secretary of the Interior shall publish in the Federal Register notice of the approved Tribal-State compacts for the purpose of engaging in Class III gaming activities on Indian lands.

This amendment extends the term of the compact for 10 years, increases the number of gaming machines, the maximum jackpot on gaming machines and the prize limit on Class III poker, for the Northern Cheyenne Tribe.

Dated: April 19, 2007.
Carl J. Artman,
Assistant Secretary—Indian Affairs.

[FR Doc. E7-8134 Filed 4-27-07; 8:45 am]

BILLING CODE 4310-02-P